DEPARTMENT OF COMMERCE

[Docket No. 210518-0109]

Privacy Act of 1974; System of Records

AGENCY: U.S. Census Bureau, U.S. Department of Commerce.

ACTION: Notice of amendment, Privacy Act System of Records; COMMERCE/CENSUS-8, Statistical Administrative Records System.

SUMMARY: In accordance with the Privacy Act of 1974, as amended and Office of Management and Budget (OMB) Circular A-108, “Federal Agency Responsibilities for Review, Reporting, and Publication under the Privacy Act,” the Department of Commerce (Department) is issuing this notice of intent to modify a system of records, COMMERCE/CENSUS-8, Statistical Administrative Records System.

DATES: To be considered, written comments must be submitted on or before July 21, 2022. This modified system of records will become effective on June 21, 2022 with the exception of any newly proposed or modified routine uses set forth under the section heading, “ROUTINE USES OF RECORDS MAINTAINED IN THE SYSTEM, INCLUDING CATEGORIES OF USERS AND PURPOSES OF SUCH USES,” which are subject to a 30-day period during which interested persons may submit comments to the Department. A new or modified routine use will become effective on August 5, 2022, unless the new or modified routine use needs to be changed as a result of public comment.

If the modified system of records notice needs to be changed, the Department will publish a subsequent notice in the Federal Register by August 5, 2022, stating that the current system of records will remain in effect until a revised notice is published in the Federal Register.

ADDRESSES: Please address comments to: Byron Crenshaw, Privacy Compliance Branch, Room 8H021, U.S. Census Bureau, Washington, DC 20233-3700 or by email, Byron.Crenshaw@census.gov.

FOR FURTHER INFORMATION CONTACT: Byron Crenshaw, Privacy Compliance Branch, Room 8H021, U.S. Census Bureau, Washington, DC 20233-3700, 301-763-7997, or by email, Byron.Crenshaw@census.gov.

SUPPLEMENTARY INFORMATION: This update makes nine program-related changes to COMMERCE/CENSUS-8, Statistical Administrative Records System. The first of nine proposed changes to program-related provisions update the description of the system location to specify the name and address of the cloud service provider. The second proposed change updates the description of the system manager for this system of records to reflect a U.S. Census Bureau (Census Bureau) reorganization that places some of the administrative records maintained in this system of records under a new manager. Administrative records maintained by the Center for Optimization and Data Science, including unique data sets that are extracted or combined on an as-needed basis for approved projects, are maintained in this system of records and will remain with the Research and Methodology Directorate but will be managed by the Assistant Director rather than the Associate Director. For specific research activities, these records may contain names as the personal identifier for retrieval of these records. The remaining administrative records with personal identifiers will be managed by the Associate Director for Economic Programs. The third proposed change updates the description of the purposes of the system to clarify that some identifiers (e.g., social security numbers) may be retained for special research projects, including projects to support evidence-based policymaking as specified in the Foundations for Evidence-Based Policymaking Act of 2018, and consist of evidence of program effectiveness to inform processes for making policy decisions. The fourth proposed change revises the description of categories of individuals covered by the system to clarify that the system of records may include data on individuals obtained from other government entities (e.g., state, local, and tribal governments), other third-party entities, and websites (such as through web scraping). The fifth proposed change updates the description of categories of records in the system to provide new detail about the information in the categories, including the collection of social media screen name (such as through web scraping or the acquisition of contact information through commercial resellers), place of birth, mobility status, citizenship, immigration status, and disability status. The sixth proposed change clarifies the record source categories by specifying other Census Bureau systems of records from which records in this system are obtained and by providing additional details regarding non-federal sources, including other government entities and other third-party entities. The seventh proposed change is a non-substantive change to the description of routine uses of the records to clarify that certain individuals (designated as Special Sworn Status individuals) authorized by Title 13, U.S. Code have access to this system of records. Special Sworn Status individuals are subject to the same confidentiality requirements as regular Census Bureau employees. This notice does not propose any new or significantly modified routine uses to this system of records. The eighth proposed change updates the policies and practices for retrieval of records to show the linkage between systems of records covered by COMMERCE/CENSUS-3, Demographic Survey Collection (Census Bureau Sampling Frame) (name change from COMMERCE/CENSUS-3, Special Censuses, Surveys, and Other Studies pending publication in the Federal Register); COMMERCE/CENSUS-4, Economic Survey Collection; COMMERCE/CENSUS-5, Decennial Census Program; COMMERCE/CENSUS-7, Demographic Survey Collection (Non-Census Bureau Sampling Frame) (name change from COMMERCE/CENSUS-7, Special Censuses of Population Conducted for State and Local Government pending publication in the Federal Register); COMMERCE/CENSUS-9, Longitudinal Employer-Household Dynamics System; COMMERCE/CENSUS-12, Foreign Trade Statistics; and this system of records for approved special research projects with limited access. The ninth proposed change updates administrative, technical, and physical safeguards to include additional safeguard language regarding cloud service providers approved in the government-wide Federal Risk and Authorization Management Program (FedRAMP) that provides a standardized approach to security assessment, authorization, and continuous monitoring for cloud products and services. This update also makes minor administrative updates.

The proposed changes are in accordance with OMB Circular A-108, which requires agencies to periodically review systems of records notices for accuracy and completeness, paying special attention to changes in the manner in which records are organized, indexed or retrieved that result in a change in the nature or scope of these records; and the Privacy Act, which requires agencies to publish in the Federal Register a notice that describes the changes to the system of records.

The Privacy Act also requires each agency that proposes to establish or significantly modify a system of records to provide adequate advance notice of any such proposal to OMB, the Committee on Oversight and Reform of the House of Representatives, and the Committee on Homeland Security and Governmental Affairs of the Senate (5 U.S.C 552a(r)). The purpose of providing the advance notice to OMB and Congress is to permit an evaluation of the potential effect of the proposal on the privacy and other rights of individuals. The Department filed a report describing the modified system of records covered by this notice with the Chair of the Senate Committee on Homeland Security and Governmental Affairs, the Chair of the House Committee on Oversight and Reform, and the Deputy Administrator of the Office of Information and Regulatory Affairs, OMB on [INSERT DATE OF LETTERS].

SYSTEM NAME AND NUMBER:

COMMERCE/CENSUS-8, Statistical Administrative Records System.

SECURITY CLASSIFICATION:

None.

SYSTEM LOCATION:

U.S. Census Bureau, Bowie Computer Center, 17101 Melford Boulevard, Bowie, Maryland 20715; and at a FedRAMP-approved cloud services facility, Amazon Web Services (AWS), located at 410 Terry Ave. N, Seattle, WA 98109.

SYSTEM MANAGER(S):

For Center for Optimization and Data Science: Assistant Director for Research and Methodology, U.S. Census Bureau, 4600 Silver Hill Road, Washington, DC 20233-8000.

For Economic Research Division (ERD) Records: Associate Director for Economic Programs, U.S. Census Bureau, 4600 Silver Hill Road, Washington, DC 20233-8000.

AUTHORITY FOR MAINTENANCE OF THE SYSTEM:

13 U.S.C. 6.

PURPOSE(S) OF THE SYSTEM:

This system of records supports the Census Bureau's core mission of producing economic and demographic statistics. To accomplish this mission, the Census Bureau is directed to acquire information from public and third-party sources to ensure the efficient and economical conduct of its censuses and surveys by using that information instead of conducting direct inquiries. To provide the information on which the American public, businesses, policymakers, and analysts rely, the Statistical Administrative Records System efficiently re-uses data from external sources, thereby eliminating the need to collect information again. Therefore, the purpose of this system is to centralize and control the use of personally identifiable information by providing a secure repository that supports statistical operations. With the exception of special projects, the system removes Social Security Numbers (SSNs) contained in source files and replaces them with unique non-identifying codes called Protected Identification Keys (PIKs) prior to use by other Census Bureau operating units. Census Bureau staff use the PIK to merge files to conduct approved research projects. Through legal agreements documenting permitted uses of the external data, linked files may be created to produce statistics. By combining survey and census data with administrative record data obtained from other government entities, third-party entities (e.g., commercial and private sources) and websites, the Census Bureau will improve the quality and usefulness of its statistics and reduce the respondent burden associated with direct data collection efforts. The system will also be used to plan, evaluate, and enhance survey and census operations; improve questionnaire design and selected survey data products; produce research and statistical products such as estimates of the demographic, social, and economic characteristics of the population. Additionally, this system of records includes records maintained for evidence-based policymaking. These records consist of evidence of program effectiveness to inform processes for making policy decisions.

CATEGORIES OF INDIVIDUALS COVERED BY THE SYSTEM:

This system covers the population of the United States and territories. In order to approximate coverage of the population in support of its statistical programs, the Census Bureau will acquire administrative record files from federal agencies such as the Departments of Agriculture, Education, Health and Human Services, Homeland Security, Housing and Urban Development, Labor, Treasury, Veterans Affairs, the Office of Personnel Management, the Social Security Administration, the Selective Service System, and the U.S. Postal Service. Data on individuals may also be sought from other government entities (e.g., state, local, and tribal governments), third-party entities (e.g., commercial and private sources), and websites.

CATEGORIES OF RECORDS IN THE SYSTEM:

Records in this system of records are organized into three components: The first category contains records with personal identifiers (names and SSNs), with access restricted to a limited number of sworn Census Bureau staff. These records are only used for a brief period of time while the personal identifiers are replaced with unique non-identifying codes. In a controlled Information Technology (IT) environment, the identifying information SSN contained in source files is removed and replaced with unique non-identifying codes. Section 6 of Title 13, U.S. Code, authorizes the Census Bureau to acquire information from other federal departments and agencies and for the acquisition of reports of other governmental or private sources. Data acquired by the Census Bureau to meet this directive may include direct identifiers such as name, address, date of birth, driver's license number, and SSN. The direct identifiers are used to identify duplicate lists and link across multiple sources. The Census Bureau has developed software to standardize and validate incoming person records to assign a PIK, which is retained on file so that SSNs can be removed. This process occurs through the Person Identification Validation System (PVS). The PVS software processes direct identifiers from input files. Census Bureau staff use the person linkage keys to merge files when conducting approved research and operations activities. The software is also used to facilitate record linkage for Census Bureau research partners within the Federal Statistical System, the decentralized network of federal agencies that produce data about the people, economy, natural resources, and infrastructure of the United States. Through legal agreements, linkage keys may be created by the Census Bureau for other Federal Statistical System agencies to produce statistics. The PVS does not append additional identifying information, only a unique identifier to facilitate record linkage.

The second category contains records that are maintained on unique data sets that are extracted or combined on an as-needed basis in approved projects. Records are extracted or combined as needed using the unique non-identifying codes, not by name or SSN, to prepare numerous statistical products. These records may contain information such as: demographic information—date of birth, place of birth, sex, race, ethnicity, household and family characteristics, birth expectations, mobility status, education, citizenship, immigration status, marital status, tribal affiliation, veteran's status, and disability status, etc.; geographical information—address and geographic codes, etc.; mortality information—cause of death and hospitalization information, etc.; health information—type of provider, services provided, cost of services, and quality indicators, etc.; economic information—housing characteristics, income, occupation, employment and unemployment information, health insurance coverage, federal and state program participation, assets, and wealth, etc.; respondent contact information—name, telephone number, email address or equivalent (such as social media screen name). Additionally, the Census Bureau may retain some direct identifiers (e.g., SSN) for projects per interagency agreements and for short-term projects.

The third category contains two types of records that use name data for specific research activities. The Census Bureau has policies and procedures to review and control name data from administrative records providers and third-party sources. This category refers to name data used to plan contact operations for surveys and censuses and for research on names. The first type of records includes: Respondent contact information—name (or username), address, telephone number (both landline and cell phone number), and email address or equivalent (such as social media screen name), etc. The second type of records includes name data used to set Demographic Characteristics Flags—names are compared to lookup tables and used in models to assign sex and ethnicity. Records in this category are maintained on unique data sets that are extracted or combined on an as-needed basis using the unique non-identifying codes that replaced the SSNs, but with some name information retained. Other demographic information in this second type of records includes: date of birth, place of birth, sex, race, ethnicity, household and family characteristics, mobility status, citizenship, immigration status, education, marital status, tribal affiliation, veteran status, and disability status.

RECORD SOURCE CATEGORIES:

In general the records in this system come indirectly from individuals and addresses obtained from other systems of records covered by COMMERCE/CENSUS-3, Demographic Survey Collection (Census Bureau Sampling Frame) (name change from COMMERCE/CENSUS-3, Special Censuses, Surveys, and Other Studies pending publication in the Federal Register); COMMERCE/CENSUS-4, Economic Survey Collection; COMMERCE/CENSUS-5, Decennial Census Programs; COMMERCE/CENSUS-7, Demographic Survey Collection (Non-Census Bureau Sampling Frame) (name change from COMMERCE/CENSUS-7, Special Censuses of Population Conducted for State and Local Government pending publication in the Federal Register); COMMERCE/CENSUS-9, Longitudinal Employer-Household Dynamics System; and COMMERCE/CENSUS-12, Foreign Trade Statistics. Additionally, the Census Bureau will acquire administrative record files on individuals and addresses from federal, state, local and tribal governments, third-party entities (e.g., commercial or private sources), and websites. Federal agency sources include: Departments of Agriculture, Education, Health and Human Services, Homeland Security, Housing and Urban Development, Labor, Treasury, Veterans Affairs, the Office of Personnel Management, the Social Security Administration, the Selective Service System, and the U.S. Postal Service.

ROUTINE USES OF RECORDS MAINTAINED IN THE SYSTEM, INCLUDING CATEGORIES OF USERS AND PURPOSES OF SUCH USES:

There are no routine uses for this system of records. Access to records maintained in the system is restricted to Census Bureau employees and certain individuals authorized by Title 13, U.S. Code (designated as Special Sworn Status individuals). These individuals are subject to the same confidentiality requirements as regular Census Bureau employees.

POLICIES AND PRACTICES FOR STORAGE OF RECORDS:

Records will be stored in a secure computerized system and on magnetic media; output data will be electronic. Magnetic media will be stored in a secure area within a locked drawer or cabinet. Source data sets containing personal identifiers will be maintained in a secure restricted-access IT environment. Records may also be stored by or at a secure FedRAMP-approved cloud service provider or facility.

POLICIES AND PRACTICES FOR RETRIEVAL OF RECORDS:

Census Bureau staff producing statistical products will have access only to data sets from which SSNs have been deleted and replaced by a PIK. Records from this system of records may also be linked to records covered by COMMERCE/CENSUS-3, Demographic Survey Collection (Census Bureau Sampling Frame) (name change from COMMERCE/CENSUS-3, Special Censuses, Surveys, and Other Studies pending publication in the Federal Register); COMMERCE/CENSUS-4, Economic Survey Collection; COMMERCE/CENSUS-5, Decennial Census Programs; COMMERCE/CENSUS-7, Demographic Survey Collection (Non-Census Bureau Sampling Frame) (name change from COMMERCE/CENSUS-7, Special Censuses of Population Conducted for State and Local Government pending publication in the Federal Register), COMMERCE/CENSUS-9, Longitudinal Employer-Household Dynamics System; and, COMMERCE/CENSUS-12, Foreign Trade Statistics, where the records may be retrieved by the PIK or by a direct identifier (such as name or SSN) common to all seven systems of records (including this SORN) to conduct approved special research projects. Only a limited number of sworn Census Bureau staff and individuals with Special Sworn Status, who work within a secure restricted-access environment, will be permitted to retrieve records containing direct identifiers.

POLICIES AND PRACTICES FOR RETENTION AND DISPOSAL OF RECORDS:

Records are to be retained in accordance with General Records Schedule GRS 5.1, 5.2, and the Census Bureau's records control schedule DAA-0029-2014-0005, Records of the Center for Administrative Records Research and Applications, which are approved by the National Archives and Records Administration (NARA). Records are also retained in accordance with agreements developed in accordance with other agencies and source entities. Federal tax information administrative record data will be retained and disposed of in accordance with 26 U.S.C. 6103(p)(4)(F)(ii) and Internal Revenue Service (IRS) Publication 1075, Tax Information Security Guidelines for Federal, State and Local Agencies. The Census Bureau issues an Annual Safeguard Security Report that includes information on the retention and disposal of federal tax information. The Census Bureau does not transfer Federal tax information administrative record data to NARA.

ADMINISTRATIVE, TECHNICAL, AND PHYSICAL SAFEGUARDS:

The Census Bureau is committed to respecting respondent privacy and protecting confidentiality. Through the Data Stewardship Program, we have implemented management, operational, and technical controls and practices to ensure high-level data protection to respondents of our censuses and surveys.

(1) A policy against unauthorized browsing protects respondent information from casual or inappropriate use by any person with access to Census Bureau protected data. Unauthorized browsing is defined as the act of searching or looking through, for other than work-related purposes, protected personal or business-related information that directly or indirectly identifies individual persons or businesses. Unauthorized browsing is prohibited.

(2) All Census Bureau employees and persons with Special Sworn Status are subject to the restrictions, penalties, and prohibitions of 13 U.S.C. 9 and 214 as modified by 18 U.S.C. 3551, et. seq.; provisions of the Privacy Act, as applicable; 18 U.S.C. 1905; 26 U.S.C. 7213, 7213A, and 7431; and 42 U.S.C. 1306.

(3) All Census Bureau employees and persons with Special Sworn Status will be regularly advised of regulations governing the confidentiality of the data and will be required to complete an annual Data Stewardship Awareness training, and those who have access to Federal Tax Information data will be regularly advised of regulations governing the confidentiality of the data and will be required to complete an annual Title 26, U.S. Code awareness program. Employees of FedRAMP-approved cloud service providers do not have access to Census Bureau protected data maintained in this system of records.

(4) The restricted-access IT environment has been established to limit the number of Census Bureau staff with direct access to the personal identifiers in this system to protect the confidentiality of the data and to prevent unauthorized use or access.

(5) All Census Bureau and FedRAMP-approved computer systems that maintain sensitive information are in compliance with the Federal Information Security Management Act, as amended (44 U.S.C. 3551-3559), which includes auditing and controls over access to restricted data.

(6) The use of unsecured telecommunications to transmit individually identifiable information is prohibited.

(7) Paper copies that contain sensitive information are stored in secure facilities in a locked drawer or file cabinet.

(8) Each requested use of the data maintained in this system of records will be reviewed by an in-house Project Review Board to ensure that data relating to the project will be used only for authorized purposes. All uses of the data are solely for statistical purposes, which by definition means that uses will not directly affect benefits or enforcement actions for any individual. Only when the Project Review Board has approved a project will access to information from one or more of the source data sets be granted. Data from external sources in approved projects will not be made publicly available. Any publications based on the Statistical Administrative Records System will be cleared for release under the direction of the Census Bureau's Disclosure Review Board, which will confirm that all the required disclosure protection procedures have been implemented. No information will be released that identifies any individual.

RECORD ACCESS PROCEDURES:

None.

CONTESTING RECORD PROCEDURES:

None.

NOTIFICATION PROCEDURES:

None.

EXEMPTIONS PROMULGATED FOR THE SYSTEM:

Pursuant to 5 U.S.C. 552a(k)(4), this system of records is exempted from subsections (c)(3); (d); (e)(1); (e)(4)(G), (H), and (I); and (f) of the Privacy Act. These subsections include, but are not limited to, certain requirements concerning notification, access, and contest procedures. This exemption is applicable as the data are maintained by the Census Bureau solely as statistical records, as required under Title 13, U.S. Code, and are not used in whole or in part in making any determination about an identifiable individual. This exemption is made in accordance with the Department's rules which appear in 15 CFR part 4 Subpart B.

HISTORY:

81 FR 776554, November 3, 2016, Notice of Proposed Amendment.

Jennifer Goode,
Deputy Director and Acting Director of the Office of Privacy and Open Government.

[FR Doc. 2022-12598 Filed 6-17-22; 8:45 am]

BILLING CODE 3510-07-P